DEPARTMENT OF HEALTH AND HUMAN SERVICES

Food and Drug Administration

21 CFR Part 700

Recordkeeping Requirements for Human Food and Cosmetics Manufactured From, Processed With, or Otherwise Containing, Material From Cattle

CFR Correction

In Title 21 of the Code of Federal Regulations, Parts 600 to 799, revised as of April 1, 2007, in § 700.27, on page 138, paragraph (d) is reinstated to read as follows:

§ 700.27 Use of prohibited cattle materials in cosmetic products.

* * * * *

(d) Adulteration. Failure of a manufacturer or processor to operate in compliance with the requirements of paragraph (b) or (c) of this section renders a cosmetic adulterated under section 601(c) of the act.

[FR Doc. 07-55510 Filed 8-14-07; 8:45 am]

BILLING CODE 1505-01-D